DEPARTMENT OF TRANSPORTATION

Federal Aviation Administration

14 CFR Part 39

[Docket No. 2003-NM-217-AD; Amendment 39-13843; AD 2004-22-15]

RIN 2120-AA64

Airworthiness Directives; Boeing Model 747-400 and -400D Series Airplanes

AGENCY: Federal Aviation Administration, DOT.

ACTION: Final rule.

SUMMARY: This amendment supersedes an existing airworthiness directive (AD), applicable to certain Boeing Model 747-400 series airplanes, that currently requires installation of strap assemblies on the ceiling panels and rails that support the video monitors. For certain airplanes, this amendment requires replacement of certain plate assemblies within the ceiling panel strap assemblies with new, improved plate assemblies. This amendment also revises the applicability by adding airplanes. The actions specified by this AD are intended to prevent ceiling panels from falling into the passenger cabin area in the event of failure of certain latch assemblies on the ceiling panels, which could result in consequent injury to the flightcrew and passengers. This action is intended to address the identified unsafe condition.

DATES: Effective December 9, 2004.

The incorporation by reference of certain publications listed in the regulations is approved by the Director of the Federal Register as of December 9, 2004.

ADDRESSES: The service information referenced in this AD may be obtained from Boeing Commercial Airplanes, P.O. Box 3707, Seattle, Washington 98124-2207. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Patrick Gillespie, Aerospace Engineer, Cabin Safety and Environmental Systems Branch, ANM-150S, FAA, Seattle Aircraft Certification Office; telephone (425) 917-6429; fax (425) 917-6590.

SUPPLEMENTARY INFORMATION: A proposal to amend part 39 of the Federal Aviation Regulations (14 CFR part 39) by superseding AD 99-18-07, amendment 39-11273 (64 FR 47372, August 31, 1999), which is applicable to certain Boeing Model 747-400 series airplanes, was published in the Federal Register on June 23, 2004 (69 FR 34969). That action proposed to continue to require installation of strap assemblies on the ceiling panels and rails that support the video monitors. For certain airplanes, that action also proposed to require replacement of certain plate assemblies within the ceiling panel strap assemblies with new, improved plate assemblies. That action also proposed to revise the applicability by adding airplanes.

Comments

Interested persons have been afforded an opportunity to participate in the making of this amendment. No comments were submitted in response to the proposal or the FAA's determination of the cost to the public.

Change to This Final Rule

The Summary section of the proposed AD inadvertantly stated that the existing AD that is being superseded, AD 99-18-07, amendment 39-11273 (64 FR 47372, August 31, 1999), is applicable to certain Boeing Model 747-400 and 747-400D series airplanes. The existing AD is applicable only to certain Boeing Model 747-400 series airplanes. The Summary section of this final rule has been changed to correctly state that the existing AD is applicabe to certain Boeing Model 747-400 series airplanes.

Conclusion

We have carefully reviewed the available data and determined that air safety and the public interest require adopting the AD with the change described previously. We have determined that this change will neither increase the economic burden on any operator nor increase the scope of the AD.

Cost Impact

There are approximately 346 airplanes of the affected design in the worldwide fleet. The FAA estimates that 43 airplanes of U.S. registry will be affected by this AD.

The actions that are currently required by AD 99-18-07, and retained in this AD, take approximately 9 work hours per ceiling panel, and between 18 and 126 work hours per airplane to accomplish, at an average labor rate of $65 per work hour. Required parts cost between $1,366 and $9,575 per airplane. Based on these figures, the cost impact of the previously required actions on U.S. operators is estimated to be between $2,536 and $17,765 per airplane.

The installation of new plates that is required by this new AD will take approximately 7 work hours per ceiling panel, and between 18 and 126 work hours per airplane, at an average labor rate of $65 per work hour. Required parts will cost between $1,700 and $12,200 per airplane. Based on these figures, the cost impact of the new requirements of this AD on U.S. operators is estimated to be between $2,870 and $20,390 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11273 (64 FR 47372, August 31, 1999), and by adding a new airworthiness directive (AD), amendment 39-13843, to read as follows:

2004-22-15 Boeing: Amendment 39-13843. Docket 2003-NM-217-AD. Supersedes AD 99-18-07, Amendment 39-11273.

Applicability: Model 747-400 and -400D series airplanes, as listed in Boeing Alert Service Bulletin 747-25A3142, Revision 3, dated August 14, 2003; certificated in any category.

Compliance: Required as indicated, unless accomplished previously.

To prevent ceiling panels from falling into the passenger cabin area in the event of failure of certain latch assemblies on the ceiling panels, which could result in consequent injury to the flightcrew and passengers, accomplish the following:

Replacement of Plate Assemblies in the Ceiling Panel Strap Assemblies

(a) For airplanes on which ceiling panel strap assemblies were installed in accordance with Boeing Alert Service Bulletin 747-25A3142, dated October 16, 1997; or Revision 1, dated August 6, 1998; or had plate assembly 411U5513-123 installed in production as of the effective date of this AD: Within 24 months after the effective date of this AD, replace any plate assembly having part number (P/N) 411U5513-123, with a new, improved plate assembly having P/N 411U5513-131, in accordance with the Accomplishment Instructions of Boeing Alert Service Bulletin 747-25A3142, Revision 3, dated August 14, 2003.

Installation of Ceiling Panel Strap Assemblies

(b) For airplanes on which ceiling panel strap assemblies were not installed in accordance with Boeing Alert Service Bulletin 747-25A3142, dated October 16, 1997; or Revision 1, dated August 6, 1998: Within 24 months after the effective date of this AD, install strap assemblies on the ceiling panels and rails that support the video monitors in accordance with the Accomplishment Instructions of Boeing Alert Service Bulletin 747-25A3142, Revision 3, dated August 14, 2003.

Actions Done per Previous Issue of Service Bulletin

(c) Accomplishment of the specified actions before the effective date of this AD per Boeing Alert Service Bulletin 747-25A3142, Revision 2, dated March 20, 2003, is considered acceptable for compliance with the applicable requirements of paragraphs (a) and (b) of this AD.

Alternative Methods of Compliance

(d)(1) In accordance with 14 CFR 39.19, the Manager, Seattle Aircraft Certification Office, FAA, is authorized to approve alternative methods of compliance (AMOCs) for this AD.

(2) Alternative methods of compliance, approved previously in accordance with AD 99-18-07, amendment 39-11273, are approved as alternative methods of compliance with the applicable actions of this AD.

Incorporation by Reference

(e) Unless otherwise specified in this AD, the actions shall be done in accordance with Boeing Alert Service Bulletin 747-25A3142, Revision 3, dated August 14, 2003. This incorporation by reference was approved by the Director of the Federal Register in accordance with 5 U.S.C. 552(a) and 1 CFR part 51. Copies may be obtained from Boeing Commercial Airplanes, P.O. Box 3707, Seattle, Washington 98124-2207. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Effective Date

(f) This amendment becomes effective on December 9, 2004.

Issued in Renton, Washington, on October 21, 2004.
Kalene C. Yanamura,
Acting Manager, Transport Airplane Directorate, Aircraft Certification Service.

[FR Doc. 04-24521 Filed 11-3-04; 8:45 am]

BILLING CODE 4910-13-P